DEPARTMENT OF HOMELAND SECURITY

Coast Guard

33 CFR Part 100

[Docket No. USCG-2014-0360]

Special Local Regulation; Eleventh Coast Guard District Annual Marine Events

AGENCY: Coast Guard, DHS.

ACTION: Notice of Enforcement of Regulation.

SUMMARY: The Coast Guard will enforce the San Diego Maritime Museum Tall Ship Festival of Sail special local regulations during this year's event on August 29, 2014 through September 1, 2014. This event occurs on the navigable waters of the San Diego Bay in San Diego, CA. These special local regulations are necessary to provide for the safety of the participants, crew, spectators, sponsor vessels of the boat parade, and general users of the waterway. During the enforcement period, persons and vessels are prohibited from entering into, transiting through, or anchoring within this regulated area unless authorized by the Captain of the Port, or his designated representative.

DATES: This rule is effective from 9 a.m. to 7 p.m. on August 29, 2014 through September 1, 2014.

FOR FURTHER INFORMATION CONTACT: If you have questions on this notice, call or email Petty Officer Giacomo Terrizzi, Waterways Management, U.S. Coast Guard Sector San Diego, CA; telephone (619) 278-7656, email D11-PF-MarineEventsSanDiego@uscg.mil.

SUPPLEMENTARY INFORMATION:

The Coast Guard will enforce the special local regulations in 33 CFR 100.1101 in support of San Diego Maritime Museum Tall Ship Festival of Sail (Item 15 on Table 1 of 33 CFR 100.1101), held on a weekend in September. The Coast Guard will enforce the special local regulations on the San Diego Bay in San Diego, CA on Friday August 29, 2014 through Monday September 1, 2014 from 9 a.m. to 7 p.m.

Under the provisions of 33 CFR 100.1101, persons and vessels are prohibited from entering into, transiting through or anchoring within this regulated area unless authorized by the Captain of the Port, or his designated representative. The Coast Guard may be assisted by other Federal, State, or local law enforcement agencies in the patrol and notification of the regulation.

This document is issued under authority of 5 U.S.C. 552(a) and 33 CFR 100.1101. In addition to this document in the Federal Register, the Coast Guard will provide the maritime community with advance notification of this enforcement period via the Local Notice to Mariners and local advertising by the event sponsor.

If the Captain of the Port Sector San Diego or his designated representative determines that the regulated area need not be enforced for the full duration stated on this notice, he or she may use a Broadcast Notice to Mariners or other communications coordinated with the event sponsor to grant general permission to enter the regulated area.

Dated: June 5, 2014.
J.A. Janszen,
Commander, U.S. Coast Guard, Acting Captain of the Port San Diego.

[FR Doc. 2014-15543 Filed 7-2-14; 8:45 am]

BILLING CODE 9110-04-P